DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 79697-79699, dated December 31, 2013) is amended to reflect the reorganization of the Division of Diabetes Translation, National Center for Chronic Disease Prevention and Health Promotion, Centers for Disease Control and Prevention.

Section C-B, Organization and Functions, is hereby amended as follows:

Delete in its entirety the title and the mission and function statements for the Division of Diabetes Translation (CUCG) and insert the following:

Division of Diabetes Translation (CUCG). In collaboration with NCCDPHP divisions, other CDC components, other HHS agencies, state, tribal, local and territorial government agencies, academic institutions, and voluntary and private sector organizations, the Division of Diabetes Translation; (1) plans, directs, and coordinates a national program to prevent diabetes and reduce morbidity, mortality, disability, and cost associated with diabetes and its complications; (2) identifies, evaluates, and implements programs and policies to prevent and control diabetes through the translation of evidence-based models and interventions for improved health care and self-care practices into widespread clinical and community practice; (3) conducts surveillance of diabetes, its complications, and the utilization of health care and prevention resources to monitor trends and evaluate program impact on morbidity, mortality, disability, and cost; (4) conducts epidemiologic studies and disseminates finding to identify and evaluate the feasibility and effectiveness of potential prevention and control strategies at the community level; (5) develops or supports clinical and public health guidelines and strategies to form the basis for community interventions; and (6) provides technical consultation and assistance to national, state and local organizations to implement and evaluate cost effective interventions to reduce morbidity, mortality, and disability.

Office of the Director (CUCG1). (1) Establishes and interprets policies and determines program priorities; (2) provides leadership and guidance in strategic planning, budget formulation, programmatic and scientific planning, development, and management, administrative management and operations of the division; (3) coordinates the monitoring and reporting of division priorities, accomplishments, future directions, and resource requirements; (4) leads and coordinates policy, communications and partnership activities; and (5) coordinates division activities with other components of NCCDPHP and CDC, organizations in the public and private sectors, and other federal agencies.

Epidemiology and Statistics Branch (CUCGB). (1) Conducts national surveillance of diabetes and its complications, including surveillance of the degree of diffusion and dissemination of preventive services and the utilization of health care; (2) identifies clinical, health services, and public health research findings and technologies that have potential to prevent or control diabetes and its complications through public health avenues; (3) develops and analyzes mathematical and economic models to project the burden of diabetes and prioritize effective interventions to prevent and control diabetes; (4) conducts epidemiologic studies to identify high-risk population groups and other risk factors for diabetes and its complications; (5) conducts cost and cost-effectiveness analyses of diabetes prevention and control to prioritize strategies for policy-makers; (6) provides scientific and technical support to division staff, state and local health agencies, and others in planning and implementation of surveillance and effectiveness studies to reduce morbidity and mortality from diabetes; and (7) collaborates with counterparts in other divisions, academic institutions, and other HHS agencies by conducting national public health research projects and by providing technical assistance in areas of epidemiology, surveillance, and economics.

Program Implementation Branch (CUCGC). (1) Provides programmatic leadership, guidance and consultation on a range of strategies to improve diabetes prevention and control programs in states, territories, tribes, and local jurisdictions; (2) identifies, develops, implements and evaluates strategies to prevent and control diabetes through widespread community practice and through the application of policy and environmental interventions, health systems interventions and community interventions; (3) provides leadership, management and oversight for the National Diabetes Prevention Program; (4) develops, implements and supports work with vulnerable and disparate population groups and (5) coordinates and collaborates with counterparts in other divisions, HHS agencies, academic institutions, and national and voluntary organizations to improve public health diabetes prevention and control programs, practices and policies.

Translation, Health Education, and Evaluation Branch (CUCGD). (1) Synthesizes and translates a body of best science and practice that can be applied to various public health settings; (2) Analyzes, disseminates, and publishes data from diabetes prevention and control programs to develop operational strategies for translation of results into improved practice; (3) prepares and disseminates products that translate applied research, program evaluation, and health economics science to state programs and others; (4) provides technical assistance and implementation support for evidence-based and practice-based communication strategies, including web management, that advance diabetes prevention and control; (5) designs, evaluates and implements national education strategies directed toward health care professionals and systems, individuals with and at risk for diabetes, community leaders, business, and general public; (6) evaluates program policies, plans, procedures, priorities, and guidelines being implemented in the field to improve health, prevent or delay type 2 diabetes and reduce morbidity, mortality, disability and costs associated with diabetes and its complications; and (7) provides evaluation support for division programs, grants, and policies, including the design and evaluation of data collection instruments for evaluation of programs.

Dated: March 12, 2014.
Sherri A. Berger,
Chief Operating Officer, Centers for Disease Control and Prevention.

[FR Doc. 2014-06019 Filed 3-19-14; 8:45 am]

BILLING CODE 4160-18-M